DEPARTMENT OF TRANSPORTATION

Federal Aviation Administration

21st Meeting: RTCA Special Committee 206: EUROCAE WG 76 Plenary: AIS and MET Data Link Services

AGENCY: Federal Aviation Administration (FAA), DOT.

ACTION: Notice of RTCA Special Committee 206: EUROCAE WG 76 Plenary: AIS and MET Data Link Services meeting.

SUMMARY: The FAA is issuing this notice to advise the public of a meeting of RTCA Special Committee 206: EUROCAE WG 76 Plenary: AIS and MET Data Link Services.

DATES: The meeting will be held June 14-18, 2010, from 9 a.m. to 5 p.m.

ADDRESSES: The meeting will be held at Service de l'Information Aeronautique, 8, Avenue Roland Garros, F-33698 Merignac Cedex, France. Contact Person: Stephane Dubet, Phone: 33-5-57 92 57 81, Cell Phone: 33-6-10 74 56 00.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a RTCA Special Committee 206: EUROCAE WG 76 Plenary: AIS and MET Data Link Services meeting. The agenda will include:

14 June—Monday

9 a.m. Opening Plenary

• Chairmen's remarks and Host's comments.

• Introductions, approval of previous meeting minutes, review and approve meeting agenda.

• Schedule for this week.

• Action Item Review.

• Schedule for next meetings.

11 a.m. Presentations

• Report from Tiger Team.

• Report for ED 2A Effort—Roger Li.

1 p.m. SPR—Joint AIS and MET Subgroup Meetings

15 June—Tuesday

9 a.m. Joint AIS and MET Subgroup Meetings

16 June—Wednesday

11 a.m. Joint AIS and MET Subgroup Meetings

17 June—Thursday

9 a.m. Joint AIS and MET Subgroup Meetings

18 June—Friday

9 a.m. Joint AIS and MET Subgroup Meetings

10:30 a.m. Plenary Session

• Other Business.

• Meeting Plans and Dates.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on May 21, 2010.
Meredith Gibbs,
RTCA Advisory Committee.

[FR Doc. 2010-12720 Filed 5-26-10; 8:45 am]

BILLING CODE 4910-13-P